DEPARTMENT OF LABOR

Employment and Training Administration

Workforce Investment Act, Section 171(d), Demonstration Program: Incumbent/Dislocated Worker Skill Shortage II Demonstration Program; Notice of Changes to Solicitation for Grant Applications (SGA)

On October 31, 2000, the Department of Labor (DOL) announced in the Federal Register (65 FR 64991-65007; FR Doc. 00-27930) a solicitation for grant applications (SGA) for the Incumbent/Dislocated Worker Skill Shortage II Demonstration Program (Reference: SGA/DFA 00-113). Proposals for this SGA were to be submitted by 4:00 p.m. Eastern Time on Tuesday, January 16, 2001.

Included among the requirements for activities under this demonstration program was the use of the lower living standard income level (LLSIL) as a wage standard for certain jobs to be filled by demonstration participants who were successful training completers. The relevant portion of the SGA at Part II, Section D., Wages noted:

Proposals must provide assurance that all participating firms which employ successful training completers have committed to pay wages to these completers * * * at a level at least equal to meeting the lower living standard income level as defined in Section 101(24) of WIA.

As a result of several inquiries regarding the LLSIL and in further consideration of this matter, the Department wishes to both clarify its intent and to change this requirement as originally announced. Because the LLSIL is adjusted for several factors, some inquirers have suggested that use of this standard in connection with its adjustments for family size could violate current equal pay protection standards. The Department wishes to note that violation of equal pay protection standards is not the intended use of the LLSIL in this SGA and regrets any misunderstanding in this matter.

Effective this date, Part II, Section D., Wages of the referenced SGA is replaced as follows:

Proposals must provide assurance that all participating firms which employ successful training completers have committed to pay wages to these completers at the wage level set by any collective bargaining agreement which covers positions to be filled by the project participants, or, if no such agreement exists, at a level at least equal to meeting the lower living standard income level as defined in Section 101(24) of WIA for a family of four.

As the above change indicates, the LLSIL, when used, is to be applied in the amounts applicable to a family of four. By standardizing the application of the LLSIL to this family size for this demonstration, a uniform wage level will be applicable for all persons regardless of their respective family sizes. All other adjustments to the LLSIL (regional, metropolitan, urban and rural differences) will continue to be applicable as provided in Section 101(24) of WIA.

(Information on the current LLSIL's may be found at: www.wdsc.org/llsil/ or in the Federal Register (65 FR 30630-30636; FR Doc. 00-11978))

To allow additional time for applicants to consider this notice, the Department hereby reopens and extends the deadline for receipt of proposals for this SGA until 4:00 p.m. Eastern Time on Wednesday, February 21, 2001. In addition, applicants who submitted proposals by the original deadline of January 16, 2001 are invited to amend their proposals accordingly by this new deadline.

Other than indicated herein, the requirements established by the above referenced October 31, 2000 SGA (SGA/DFA 00-113) remain in force.

Signed at Washington, DC, this sixteenth day of January 2001.
Laura A. Cesario,
Grant Officer, Division of Federal Assistance.

[FR Doc. 01-1696 Filed 1-17-01; 11:06 am]

BILLING CODE 4510-30-P